RAILROAD RETIREMENT BOARD

Sunshine Act Meetings

TIME AND DATE: 10 a.m., August 16, 2023.

PLACE: Members of the public wishing to attend the meeting must submit a written request at least 24 hours prior to the meeting to receive dial-in information. All requests must be sent to SecretarytotheBoard@rrb.gov.

STATUS: This meeting will be open to the public.

MATTERS TO BE CONSIDERED:

• Office of Legislative Affairs—Recent Briefings and Appropriations

CONTACT PERSON FOR MORE INFORMATION: Stephanie Hillyard, Secretary to the Board, (312) 751-4920.

(Authority 5 U.S.C. 552b)

Dated: August 4, 2023.
Stephanie Hillyard,
Secretary to the Board.

[FR Doc. 2023-17049 Filed 8-4-23; 11:15 am]

BILLING CODE 7905-01-P